DEPARTMENT OF ENERGY

Federal Energy Regulatory Commission

[Docket No. RP00-394-002]

KO Transmission Company; Notice of Compliance Filing

April 23, 2002.

Take notice that on March 5, 2002, KO Transmission Company (KOT) tendered for filing has part of its FERC Gas Tariff, Original Volume No. 1, the following pro forma tariff sheets:

Second Revised Sheet No. 30

Second Revised Sheet No. 52

Second Revised Sheet No. 55

Second Revised Sheet No. 56

First Revised Sheet No. 60

Second Revised sheet No. 99

Second Revised Sheet No. 117

Second Revised Sheet No. 124

Second Revised Sheet No. 125

Second Revised Sheet No. 133

Second Revised Sheet No. 134

Second Revised Sheet No. 135

KOT states that the filing is being made in compliance with the Commission's January 31, 2002 order in this proceeding.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-10446 Filed 4-26-02; 8:45 am]

BILLING CODE 6717-01-P